DEPARTMENT OF ENERGY

Federal Energy Regulatory Commission

Notice of Application Ready for Environmental Analysis and Soliciting Comments, Recommendations, Terms and Conditions, and Prescriptions

September 26, 2002.

Take notice that the following hydroelectric application has been filed with the Commission and is available for public inspection. a. Type of Application: New Major License. b. Project No.: 2090-003. c. Date filed: August 31, 1999. d. Applicant: Green Mountain Power Corporation. e. Name of Project: Waterbury Project. f. Location: On Little River in Washington County, Vermont. No Federal Lands used in this project. g. Filed Pursuant to: Federal Power Act, 16 U.S.C. 791(a) -825(r). h. Applicant Contact: Mr. Craig T. Myotte, Green Mountain Power Corporation, 163 Action Lane, Colchester, VT 05446, (802) 660-5830. i. FERC Contact: Any questions on this notice should be addressed to Sergiu Serban, E-mail address,sergiu.serban@ferc.gov, or telephone 202-502-6211 j. Deadline for filing motions to intervene and protests: 60 days from the issuance date of this notice.

All documents (original and eight copies) should be filed with: Magalie R. Salas, Secretary, Federal Energy Regulatory Commission, 888 First Street, NE., Washington, DC 20426.

The Commission's rules of practice and procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's web site (http://www.ferc.gov) under the “e-Filing” link. k. This application has been accepted, and is ready for environmental analysis at this time. l. The existing project utilizing the U.S. Army Corps of Engineers Waterbury Dam and reservoir consists of: (1) A submerged concrete intake structure; (2) two 205-foot-long, 54-inch diameter steel penstocks which connect to a 79-inch-diameter penstock; (3) a powerhouse having one generating unit with an installed capacity of 5,520 kW; (4) a tailrace; (5) 50-foot-long, 33 kV transmission line; and (6) appurtenant facilities The applicant does not propose any modifications to the project features or operation The project would have an annual generation of 16,223 MWh and would be used to provide energy to its customers. m. A copy of the application is available for review at the Commission in the Public Reference Room or may be viewed on the Commission's website at http://www.ferc.gov using the “FERRIS” link. Enter the docket number excluding the last three digits in the docket number field to access the document. For assistance, call (202) 502-8222 or for TTY, (202) 502-8659. A copy is also available for inspection and reproduction at the address in item h above. n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010. o. Procedural schedule and final amendments: The application will be processed according to the following Hydro Licensing Schedule. Revisions to the schedule will be made as appropriate.

Notice of application is ready for environmental analysis—September 2002

Notice of the availability of the draft EA—March 2003

Notice of the availability of the final EA—June 2003

Ready for Commission's decision on the application—June 2003

Final amendments to the application must be filed with the Commission no later than 30 days from the issuance date of this notice.

Linwood A. Watson, Jr.,
Deputy Secretary.

[FR Doc. 02-25018 Filed 10-1-02; 8:45 am]

BILLING CODE 6717-01-P